DEPARTMENT OF THE INTERIOR

Bureau of Land Management

Notice of Invitation for Coal Exploration License Application Westmoreland Savage Corporation, MTM 95948 Montana

AGENCY: Bureau of Land Management, Interior.

ACTION: Notice of Invitation.

SUMMARY: Pursuant to Section 2(b) of the Mineral Leasing Act of 1920, as amended by Section 4 of the Federal Coal Leasing Amendments Act of 1976, 90 Stat. 1083, 30 U.S.C. 201(b), and to the regulations adopted as 43 Code of Federal Regulations (CFR) 3410, all interested Qualified parties, as provided in 43 CFR 3472.1, are hereby invited to participate with Westmoreland Savage Corporation on a pro rata cost sharing basis in a program for the exploration of coal deposits owned by the United States of America in the following-described lands in Richland County, Montana:

T. 20 N., R. 57 E., PM, Montana

Sec. 26.

Containing 640 acres, more or less.

DATES: Any party electing to participate in this exploration program must send written notice referring to serial number MTM 95948 to both the Bureau of Land Management (BLM) and Westmoreland Savage Corporation as provided in the ADDRESSES section below. The notice must be received by them within 30 days after publication of this Notice of Invitation in the Federal Register or 10 calendar days after the last publication of this Notice in the Ranger Review newspaper, whichever is later. This Notice will be published once a week for two (2) consecutive weeks in The Ranger Review, Glendive, Montana.

ADDRESSES: Copies of the exploration plan as submitted by the applicant is available for public review at the BLM, 5001 Southgate Drive, Billings, Montana, during regular business hours (9 a.m. to 4 p.m.), Monday through Friday. The written notice should be sent to the following addresses: State Director, BLM, 5001 Southgate Drive, Billings, Montana 59101-4669, and Westmoreland Savage Corporation, P.O. Box 30, Savage, Montana 59262.

FOR FURTHER INFORMATION CONTACT: Connie Schaff, Land Law Examiner, Branch of Solid Minerals (MT-921), Bureau of Land Management (BLM), Montana State Office, Billings, Montana 59101-4669, telephone.

SUPPLEMENTARY INFORMATION: The proposed exploration program will be conducted pursuant to an exploration plan which must be approved by the Bureau of Land Management.

The foregoing is published in the Federal Register pursuant to 43 CFR 3410.2-1(c)(1).

Glenwood F. Kerestes,
Acting Chief, Branch of Solid Minerals.

[FR Doc. E6-20458 Filed 12-1-06; 8:45 am]

BILLING CODE 4310-$$-P